DEPARTMENT OF THE INTERIOR

Bureau of Reclamation

Albuquerque Drinking Water Project, NM

AGENCY: Bureau of Reclamation, Interior.

ACTION: Notice of Extension of Public Comment Period for Thirty Days.

SUMMARY: Notice is hereby given that the comment period for the Draft Environmental Impact Statement (DEIS) for the City of Albuquerque Drinking Water Project is extended an additional 30 days to September 12, 2002.

DATES: The end of the public comment period, as noted in the Federal Register (67 FR 40961) on June 14, 2002, was August 13, 2002. The public comment period is now extended to September 12, 2002.

ADDRESSES: Written comments on the DEIS should be addressed to Lori Robertson, Bureau of Reclamation, Albuquerque Area Office, 505 Marquette, NW., Suite 1313, Albuquerque, New Mexico 87102; faxogram (505) 248-5356; e-mail: lrobertson@uc.usbr.gov. Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

FOR FURTHER INFORMATION CONTACT: Lori Robertson, Environment and Lands Division Manager, (505) 248-5326.

Dated: August 1, 2002.
Shelly Wiser,
Acting Regional Director.

[FR Doc. 02-20429 Filed 8-12-02; 8:45 am]

BILLING CODE 4310-MN-P